SOCIAL SECURITY ADMINISTRATION

[Docket No: SSA-2025-0036]

Agency Information Collection Activities: Comment Request

The Social Security Administration (SSA) publishes a list of information collection packages requiring clearance by the Office of Management and Budget (OMB) in compliance with Public Law 104-13, the Paperwork Reduction Act of 1995, effective October 1, 1995. This notice includes a revision of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA.

(SSA) Social Security Administration, OLCA, Attn: Reports Clearance Director, Mail Stop 3253 Altmeyer, 6401 Security Blvd., Baltimore, MD 21235, Fax: 833-410-1631, Email address: OR.Reports.Clearance@ssa.gov.

Or you may submit your comments online through https://www.reginfo.gov/public/do/PRAmain by clicking on Currently under Review—Open for Public Comments and choosing to click on one of SSA's published items. Please reference Docket ID Number [SSA-2025-0036] in your submitted response.

SSA submitted the information collection below to OMB for clearance. Your comments regarding this information collection would be most useful if OMB and SSA receive them 30 days from the date of this publication. To be sure we consider your comments, we must receive them no later than August 1, 2025. Individuals can obtain copies of these OMB clearance packages by writing to the OR.Reports.Clearance@ssa.gov.

Supportive Housing & Individual Placement and Support (SHIPS) Study—0960-0840

Background

Homelessness and unemployment are linked issues, with rising housing costs often leaving people unable to afford homes when combined with unemployment. The instability of housing makes finding employment even more challenging, creating a difficult cycle to break.

While studies have shown that supportive housing programs improve housing stability, there is no significant evidence that such programs reliably increase employment among residents. (For the purposes of this study, supportive housing is defined as housing services coupled with additional services that include case management support. These include place-based permanent supportive housing, scattered site permanent supportive housing, and rapid rehousing. Conversely, Individual Placement and Support (IPS), a proven method for supporting employment, has not demonstrated effectiveness in stabilizing housing. SSA is requesting clearance to collect data for the Supportive Housing and Individual Placement and Support (SHIPS) study, under the Interventional Cooperative Agreement Program (ICAP), to determine whether participation in Individual Placement and Support (IPS) improves the employment, income, health, and self-sufficiency of people who are recently homeless and living in supportive housing. ICAP allows SSA to partner with various non-federal groups and organizations to advance interventional research connected to the Supplemental Security Income (SSI) and Social Security Disability Insurance (SSDI) programs. SSA awarded Westat a cooperative agreement to conduct SHIPS. In addition to SSA, Westat is partnering with three subrecipients for this project: (1) People Assisting the Homeless (PATH), (2) the University of Southern California (U.S.C.), and (3) the Research Foundation for Mental Hygiene (RFMH) to implement the SHIPS study.

ICAP SHIPS Study Project Description

The SHIPS study is a randomized controlled trial (RCT) designed to determine whether participation in Individual Placement and Support (IPS) improves the employment, income, health, and self-sufficiency of people who are recently homeless and living in supportive housing. The SHIPS study will mark the first study testing the effectiveness of implementing IPS in a supportive housing program. SSA hypothesizes that combining the two successful evidence-based practices that separately address homelessness and supported employment will yield a single intervention that effectively addresses both. The intent of the SHIPS study is to measure the effectiveness of evidence-based IPS compared to the services provided by local WorkSource Centers broadly available to jobseekers in the Los Angeles area, The housing case managers will refer PATH clients interested in finding employment and will randomly assign participants to one of two groups:

• IPS: The Individual Placement and Support (IPS) service team will offers a range of structured services customized to participants' personal needs, preferences, and challenges related to disabilities and/or mental health conditions. IPS was specifically designed as a supported employment model for individuals with serious mental illness and includes standardized training and fidelity requirements. Components of IPS that differ from those offered by WorkSource Services include integrated treatment that incorporates vocational and mental health services; benefits planning; and focus on rapid job search without extensive training.

• WorkSource Centers: Under PATH's current housing model, housing case managers refer PATH clients who express interest in finding employment to local American Job Centers, known as WorkSource Centers in Los Angeles. The WorkSource Centers are operated by the City of Los Angeles Economic and Workforce Development Department, and follow an employment services model that varies by WorkSource Center, is not evidence-based or subject to fidelity monitoring, and is not necessarily responsive to the individual needs of jobseekers with disabilities.

The primary goals of the SHIPS study are:

• To measure the effects of IPS participation on employment, income, health, and long-term self-sufficiency measured as a combination of housing stability, income, and receipt of DI and SSI benefits.

• To describe the study population in order to understand both the generalizability of the study's findings and the potential reasons for the observed effects.

• To explore the IPS implementation process to understand barriers and facilitators to high-fidelity IPS implementation in the supportive housing context.

Grantee researchers and SSA will use the information collected during this study to (1) assess the short-term and long-term effectiveness of the proposed intervention to improve employment, income, and self-sufficiency; (2) understand the implementation process; (3) provide detailed subgroup-specific data related to the effect of IPS.

The respondents are residents in supportive housing units operated by PATH who are unemployed and looking for employment.

Modality of completion | Number of participants | Frequency of response | Number of responses | Average burden per response (minutes) | Estimated total annual burden (hours) | Average theoretical hourly cost amount (dollars) * | Average wait time in office or for teleservice centers (minutes) ** | Total annual opportunity cost (dollars) ***
Study participants baseline interview | 200 | 1 | 200 | 60 | 200 | * $13.30 | ** 23 | *** $3,684
Study participants quarterly interviews | 200 | 7 | 1,400 | 10 | 233 | * 13.30 | ** 102 | *** 34,753
Study participants final interviews | 200 | 1 | 200 | 60 | 200 | * 13.30 | ** 102 | *** 7,182
PATH Interviews: Staff | 5 | 1 | 5 | 60 | 5 | * 35.32 | ** 23 | *** 247
SHIPS Interviews: participants | 5 | 1 | 5 | 60 | 5 | * 13.30 | ** 23 | *** 93
Totals | 610 |  |  | 250 | 643 |  |  | *** 45,959
* We based this figure on the average DI payments based on SSA's current FY 2025 data (https://www.ssa.gov/legislation/2024FactSheet.pdf), and survey researchers (Occupational Employment and Wage Statistics).
** We based this figure on averaging both the average FY 2025 wait times for field offices and teleservice centers, as well as on the field office wait times based on SSA's current management information data.
*** This figure does not represent actual costs that SSA is imposing on recipients of Social Security payments to complete this application; rather, these are theoretical opportunity costs for the additional time respondents will spend to complete the application. There is no actual charge to respondents to complete the application.

Dated: June 27, 2025.
Mark Steffensen,
General Counsel, Deputy Commissioner for Law and Policy, Social Security Administration.

[FR Doc. 2025-12294 Filed 7-1-25; 8:45 am]

BILLING CODE 4191-02-P